DEPARTMENT OF VETERANS AFFAIRS

[OMB Control No. 2900-0045]

Agency Information Collection Under OMB Review: VA Request for Determination of Reasonable Value

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden; it includes the actual data collection instrument.

DATES: Comments must be submitted on or before May 1, 2017.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0045” in any correspondence.

FOR FURTHER INFORMATION CONTACT: Cynthia Harvey-Pryor, Enterprise Records Service (005R1B), Department of Veterans Affairs, 810 Vermont Avenue NW., Washington, DC 20420, (202) 461-5870 or email cynthia.harvey-pryor@va.gov. Please refer to “OMB Control No. 2900-0045.”

SUPPLEMENTARY INFORMATION:

Authority: 44 U.S.C. 3501-3521.

Title: VA Request for Determination of Reasonable Value

OMB Control Number: 2900-0045.

Type of Review: Extension of a currently approved collection.

Abstract: Internet based. WebLGY automatically generates an appraisal request on VA Form 26-1805-1 for the requester. The requester, usually a lender or agent, following the prompts in the computer system inputs the required information. Upon completion, the requester enters “submit” and VA Form 26-1805-1 is generated which contains the case number, appraiser assignment, and property information which is automatically emailed to the appraiser and requester.

An agency may not conduct or sponsor, and a person is not required to respond to a collection of information unless it displays a currently valid OMB control number. The Federal Register Notice with a 60-day comment period soliciting comments on this collection of information was published at 82 FR 16, page 8564-8565 on Thursday, January 26, 2017.

Affected Public: Individuals or households.

Estimated Annual Burden: 51,400 hours.

Estimated Average Burden per Respondent: 12 minutes.

Frequency of Response: One-time.

Estimated Number of Respondents: 257,000.

By direction of the Secretary.
Cynthia Harvey-Pryor,
Department Clearance Officer, Office of Privacy and Records Management, Department of Veterans Affairs.

[FR Doc. 2017-06348 Filed 3-30-17; 8:45 am]

BILLING CODE 8320-01-P